FEDERAL COMMUNICATIONS COMMISSION

Notice of Public Information Collection(s) Being Reviewed by the Federal Communications Commission for Extension Under Delegated Authority, Comments Requested

July 27, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 2, 2001. If you anticipate that you will be submitting comments, but find it difficult to do so within the period of time allowed by this notice, you should advise the contact listed below as soon as possible.

ADDRESSES: Direct all comments to Les Smith, Federal Communications Commissions, Room 1 A-804, 445 Twelfth Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 3060-0989.

Title: Procedures for Applicants Requiring Section 214 Authorization for Domestic Interstate Transmission Lines Acquired through Corporate Control.

Form No.: N/A.

Type of Review: Extension.

Respondents: Business or Other for Profit.

Number of Respondents: 25.

Estimated Time Per Response: 65 hours per response (avg).

Total Annual Burden: 1625 hours.

Estimated Annual Reporting and Recordkeeping Cost Burden: $0.

Frequency of Response: On occasion.

Needs and Uses: FCC issued a Public Notice announcing procedures for common carriers requiring authorization under section 214 of the Communications Act of 1934, as amended, to acquire domestic interstate transmission lines through an acquisition of corporate control. Under section 214, carriers must obtain FCC approval before constructing, acquiring, or operating an interstate transmission lines. The information will be used to ensure that applicants comply with the requirements of 47 U.S.C. 214.

OMB Control No.: 3060-0988.

Title: Election to Freeze Part 36 Categories and Allocations.

Form No.: N/A.

Type of Review: Extension.

Respondents: Business or Other for Profit.

Number of Respondents: 700.

Estimated Time Per Response: .50 hours per response (avg).

Total Annual Burden: 350 hours.

Estimated Annual Reporting and Recordkeeping Cost Burden: $0.

Frequency of Response: On occasion; One-time Requirement.

Needs and Uses: The Commission imposed an interim freeze of the Part 36 category relationships and jurisdictional cost allocation factors. The Commission recognized that smaller rate-of-return incumbent local exchange carriers, because of their differing business structures, would not be required to freeze both their Part 36 categories and allocation factors, unlike price cap carriers. The Commission found that those rate-of-return carriers that desire to freeze their categories may elect to do so by July 1, 2001. Rate-of-return carriers that do not participate in Association tariffs will be able to elect to freeze their categories by notifying the Commission of their election.

OMB Control No.: 3060-0992.

Title: Request for Extension of the Implementation Deadline for Non-Recurring Services, CC Docket No. 96-45 (FCC 01-195) and 47 CFR Section 54.507(d)(1)-(4).

Form No.: N/A.

Type of Review: Extension.

Respondents: Not-for-profit institutions; Business or Other for Profit.

Number of Respondents: 850.

Estimated Time Per Response: 1 hour per response (avg).

Total Annual Burden: 850 hours.

Estimated Annual Reporting and Recordkeeping Cost Burden: $0.

Frequency of Response: On occasion; Third Party Disclosure.

Needs and Uses: 47 CFR Section 54.507(d) provides additional time for recipients under the schools and libraries universal service support mechanism to implement contracts or agreements with service providers for non-recurring services. 47 CFR Section 54.507(d) extends the deadline for receipt of non-recurring services from June 30 to September 30 following the close of the funding year. 47 CFR section 54.507(d) establishes a deadline for the implementation of non-recurring services for certain qualified applicants who are unable to complete implementation by the September 30 deadline. Applicants may qualify for an extension of the September 30 deadline for non-recurring services if they satisfy one of four criteria. See 47 CFR section 54.507(d). Applicants who wish to satisfy criterion (3) should submit documentation to the Administrator requesting relief on these grounds on or before the original non-recurring services deadline. With regard to criterion (4), applicants must certify to the Administration that its service provider was unwilling to deliver or install non-recurring services before the expiration of the original non-recurring services installation deadline, because the Administrator had withheld payment for those services on a properly-submitted invoice for more than 60 days after the submission of the invoice. Applicants must make this certification on or before the original non-recurring service installation deadline. 47 CFR section 54.507(d) will provide schools and libraries with more time to install non-recurring services.

Federal Communications Commission.
Magalie Roman Salas,
Secretary.

[FR Doc. 01-19503 Filed 8-2-01; 8:45 am]

BILLING CODE 6712-01-P